ENVIRONMENTAL PROTECTION AGENCY

40 CFR Part 52

[IN159-1b; FRL-7598-5]

Approval and Promulgation of Implementation Plans; Indiana; Oxides of Nitrogen Regulations

AGENCY: Environmental Protection Agency (EPA).

ACTION: Proposed rule.

SUMMARY: The EPA is proposing to approve, through direct final procedure, revisions to the oxides of nitrogen budget trading program plan submitted by Indiana on June 26, 2003, and August 4, 2003. These changes revise Indiana's NOX State Implementation Plan (SIP) and NOX budget approved by EPA on November 8, 2001. The most significant change adds three sources to the NOX trading portion of the Indiana plan. The plan revision also includes: A compliance date change to accommodate revised deadlines under the NOX SIP call; a revised definition of “energy efficiency project” to include anaerobic digestion systems; the addition of formulas to describe an energy efficiency and renewable energy “set aside”; and minor wording changes and correction of typographical errors. These changes are consistent with Indiana's previously approved “Phase I budget.”

In the Final Rules section of this Federal Register, EPA is approving these revisions to the State plan for oxides of nitrogen as a direct final rule without prior proposal because we view this action as noncontroversial and anticipate no adverse comments. If no written adverse comments are received in response to the direct final rule, no further activity is contemplated in relation to this proposed rule. If EPA receives meaningful written adverse comments, the direct final rule will be withdrawn and all public comments received will be addressed in a subsequent final rule based on this proposed rule. If no adverse written comments are received, the direct final rule will take effect on the date stated in that document and no further activity will be taken on this proposed rule. Any party interested in commenting on this action should do so at this time.

DATES: Written comments must be received on or before January 12, 2004.

Comments may also be submitted electronically or through hand delivery/courier, please follow the detailed instructions described in Part(I)(B)(1)(i) through (iii) of the SUPPLEMENTARY INFORMATION section of the related direct final rule which is published in the Rules section of this Federal Register.

ADDRESSES: Written comments should be sent to: J. Elmer Bortzer, Chief, Criteria Pollutant Section, Air Programs Branch (AR-18J), U.S. Environmental Protection Agency, Region 5, 77 West Jackson Boulevard, Chicago, Illinois 60604. bortzer.jay@epa.gov.

FOR FURTHER INFORMATION CONTACT: John Paskevicz, Engineer, Criteria Pollutant Section, Air Programs Branch (AR-18J), U.S. Environmental Protection Agency, Chicago, Illinois 60604. E-Mail Address: paskevicz.john@epa.gov.

SUPPLEMENTARY INFORMATION: For additional information see the direct final rule published in the rules section of this Federal Register.

Authority: 42 U.S.C. 4201 et seq.

Dated: December 2, 2003.
Bharat Mathur,
Regional Administrator, Region 5.

[FR Doc. 03-30697 Filed 12-10-03; 8:45 am]

BILLING CODE 6560-50-P